DEPARTMENT OF THE INTERIOR

Bureau of Land Management

[LLUT92000 L13100000 FI0000 25-7A]

Notice of Proposed Class II Reinstatement of Terminated Oil and Gas Lease, Utah

AGENCY: Bureau of Land Management, Interior.

ACTION: Notice.

SUMMARY: In accordance with Title IV of the Federal Oil and Gas Royalty Management Act, Bro Energy LLC timely filed a petition for reinstatement of oil and gas lease UTU85562 lands in Carbon County, Utah, accompanied by all required rentals and royalties accruing from July 1, 2011, the date of termination.

FOR FURTHER INFORMATION CONTACT: Kent Hoffman, Deputy State Director, Lands and Minerals, Utah State Office, Bureau of Land Management, 440 West 200 South, Salt Lake City, Utah 84145, phone (801) 539-4063. Persons who use a telecommunications device for the deaf (TDD) may call the Federal Information Relay Service (FIRS) at 1-800-877-8339 to contact the above individual during normal business hours. FIRS is available 24 hours a day, 7 days a week, to leave a message or question with the above individual. You will receive a reply during normal business hours.

SUPPLEMENTARY INFORMATION: The lessee has agreed to new lease terms for rentals and royalties at rates of $10 per acre and 16⅔ percent, respectively. The $500 administrative fee for the lease has been paid and the lessee has reimbursed the Bureau of Land Management for the cost of publishing this notice.

The public has 30 days after publication in the Federal Register to comment on the issuance of the Class II reinstatement. If no objections are received within that 30-day period, the BLM will issue a decision to the lessee reinstating the lease. Written comments will be accepted by fax, e-mail, or letter to: Bureau of Land Management, Utah State Office, Attn: Kent Hoffman, P.O. Box 45155, Salt Lake City, UT 84145.

Having met all the requirements for reinstatement of the lease as set out in Section 31(d) and (e) of the Mineral Leasing Act of 1920 (30 U.S.C. 188), the Bureau of Land Management is proposing to reinstate the lease, effective July 1, 2011, subject to the original terms and conditions of the lease and the increased rental and royalty rates cited above.

Approved.
Shelley J. Smith,
Acting State Director.

[FR Doc. 2011-27560 Filed 10-24-11; 8:45 am]

BILLING CODE 4310-DQ-P